DEPARTMENT OF TRANSPORTATION

Coast Guard

33 CFR Part 164

[USCG-2001-8826]

RIN 2115-AG09

Electronic Chart Display and Information Systems for Commercial Vessels

AGENCY: Coast Guard, DOT.

ACTION: Advance notice of proposed rulemaking.

SUMMARY: The Coast Guard proposes to amend its regulations to allow commercial vessels to use as their primary means of navigation in U.S. waters an electronic charting and navigation system that meets the Electronic Charting Display and Information System (ECDIS) standard of the International Maritime Organization (IMO). Allowing commercial vessels to use modern electronic charting technology may reduce the potential for human error by providing a continuous update of a vessel's position for the mariner. To obtain information needed to amend this rule, the Coast Guard asks for comments from the public on the questions listed in this document.

DATES: Comments and related material must reach the Docket Management Facility on or before July 2, 2001.

ADDRESSES: To make sure your comments and related material are not entered more than once in the docket, please submit them by only one of the following means:

(1) By mail to the Docket Management Facility (USCG 2001-8826), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is (202) 366-9329.

(3) By fax to the Docket Management Facility at (202) 493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at

http://dms.dot.gov.

FOR FURTHER INFORMATION CONTACT: For questions on this proposed rule, contact David Beach, Office of Vessel Traffic Management, Coast Guard, telephone 202-267-6623. For questions on viewing or submitting material to the docket, call Dorothy Beard, Chief, Dockets, Department of Transportation, telephone 202-366-9329.

SUPPLEMENTARY INFORMATION:

Request for Comments

We encourage you to participate in this rulemaking by submitting comments and related material. If you do so, please include your name and address and identify the docket number for this rulemaking (USCG 2001-8826). Please indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. The Coast Guard may change this proposed rule in view of the comments received.

Public Meeting

As of now, the Coast Guard does not plan to hold a public meeting. But you may submit a request for a public meeting to the Docket Management Facility at the address under ADDRESSES explaining why one would be beneficial. If we determine that a public meeting would aid this rulemaking, we will hold one at a time and place announced by a later notice in the Federal Register.

Background and Purpose

Currently, self-propelled vessels 1600 gross tons and over (with some exceptions) are required to use printed charts and publications and manually plot their position while navigating in U.S. waters. The existing regulations require a vessel to maintain current paper charts and publications for the area to be transited. Paper charts and publications requiring labor-intensive corrections cannot be updated as expediently as an electronic charting system. Rapid improvements in electronic technology and communications may offer viable options to replace these traditional methods and tools of navigation.

Existing computer applications can eliminate paper documents and reduce the time needed to obtain updated navigation information. Today, computer technology can instantly assimilate data from multiple satellite sources and allow continuous information updates to a vessel's navigation and positioning. The Coast Guard realizes that updating or correcting printed navigation material (i.e. charts and publications) requires a considerable expenditure of time and effort for the commercial shipping industry.

The International Maritime Organization (IMO) has adopted Electronic Charting Display Information Systems (ECDIS) standards for vessels on international voyages, and electronic charting systems are commercially available for even the smallest vessels. The Coast Guard is considering the feasibility of allowing commercial vessels the option to use ECDIS as their primary means of navigation in the navigable waters of the United States.

Under a separate rulemaking, the Coast Guard is publishing a Direct Final Rule allowing public vessels to use electronic charting and navigation systems as their primary means of navigation while transiting in the navigable waters of the United States. The Coast Guard is also planning to conduct an operational evaluation of certain electronic charting and navigation systems that are commercially available. This evaluation will assist the Coast Guard in determining if there are other charting and navigation systems incorporating electronic technology that are functionally equivalent to those required by IMO. If there are functionally equivalent systems that do not meet all of the IMO ECDIS requirements, the Coast Guard may attempt to readdress IMO acceptance of these systems at a later date.

Discussion of Proposed Rule

The Coast Guard is considering amending existing regulations to allow commercial vessels to use an IMO compliant ECDIS as their primary means of navigation in the navigable waters of the United States. Commercial vessels using an ECDIS that meets the IMO standard will have the option to be exempt from the paper chart requirement listed in 33 CFR 164.30 and the requirement for printed navigational publications found in 33 CFR 164.33. Vessels that choose to operate without an IMO compliant ECDIS would continue to navigate using corrected and up to date printed charts and publications in accordance with applicable regulations.

Regulatory Evaluation

This proposed rule is not a “significant regulatory action” under section 3(f) of Executive Order 12866 and does not require an assessment of potential costs and benefits under section 6(a)(3) of that Order. The Office of Management and Budget under this Order has not reviewed the rule. It is not “significant” under the regulatory policies and procedures of the Department of Transportation (DOT)(44 FR 11040, February 26, 1979). The Coast Guard expects the economic impact of this rule to be so minimal that a full Regulatory Evaluation under paragraph 10e of the regulatory policies and procedures of DOT is unnecessary.

Small Entities

Under the Regulatory Flexibility Act (5 U.S.C. 601-612), the Coast Guard must considered whether this proposed rule would have a significant economic impact on a substantial number of small entities. The term “small entities” comprises small businesses, not-for-profit organizations that are independently owned and operated and are not dominant in their fields, and governmental jurisdictions with populations of less than 50,000.

Presently, the impact of the proposed rulemaking would have on small entities has not been determined. Any impact on small entities will be assessed in a preliminary Regulatory Flexibility Assessment. If you think that your business, organization, or governmental jurisdiction qualifies as a small entity and that this rule would have a significant economic impact on it, please submit a comment to the Docket Management Facility at the address under ADDRESSES. In your comment explain how you think it qualifies and how and to what degree this rule would economically affect it.

Assistance for Small Entities

Under section 213(a) of the Small Business Regulatory Enforcement Fairness Act of 1996 (Pub. L. 104-121), the Coast Guard would assist small entities in understanding this proposed rule so that they can better evaluate its effects on them and participate in the rulemaking. The proposed rulemaking would provide small businesses or organizations an opportunity to comment and will provide a point of contact for any questions on the proposed rulemaking's provisions and its options for compliance. The Coast Guard will provide State's Small Business Development Centers (SBDC) with copies of the proposed rulemaking for further distribution. Small businesses may send comments on the actions of Federal employees who enforce, or otherwise determine compliance with, Federal Regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule does not provide for a collection of information under the Paperwork Reduction Act of 1995 (44 U.S.C. et seq.).

Questions

The Coast Guard requests your comments and any data or information that would answer the following questions, as well as comments on any other part of the current regulations that should be revised. In responding to a question, please explain your reasons for each answer so that we can carefully weigh the consequences and impact of any future requirements we may propose. In addition, please provide relevant data (data on operational incidents resulting in personal injury, property damage, or pollution would be particularly useful), if possible that would support the need for excluding commercial vessels from certain requirements regarding the carriage of paper navigational charts, and publications.

Usage

1. Should ECDIS systems be allowed as an alternative to paper charts for commercial vessels?

2. Which categories of self-propelled vessels (1600 or more gross tons) will install the optional ECDIS system as defined by IMO, as an alternative for the paper charts required by 33 CFR part 164?

3. How many self-propelled vessels of less than 1600 gross tons may install an ECDIS system?

4. If you are planning to install ECDIS, what factors led you to this decision?

5. If you are not planning to install ECDIS, what factors led you to this decision?

6. Are you considering ECDIS as a stand-alone unit, or as part of an Integrated Bridge System?

Costs

1. What is the cost for an ECDIS system (software/hardware)?

2. How much would you estimate it would cost to have an ECDIS system installed on your vessel?

3. Once the ECDIS system is installed, what kind of maintenance would the system need?

4. How much does the maintenance of the system cost and how often (annual, quarterly, monthly) would it need to be conducted?

5. What is the average operational life of the ECDIS system? Is there a projected time when the system should be replaced?

6. What does it cost to update electronic charts? How is the update information provided? How often is the update information provided?

7. How does the electronic chart service compare to your current service for paper charts?

8. What are the economic benefits to a company that would use ECDIS instead of existing paper charts? What other potential benefits can be provided by the use of ECDIS?

9. Are there other electronic charting and navigational systems that should be considered?

10. How many paper charts are purchased on average per year? How much do the charts cost? How much does it cost to have the paper charts updated and how often are they updated (annually, quarterly, monthly)?

Operations

1. What kind of training would be required to use an ECDIS system?

2. What would be the estimated time period for the training and what are the involved costs?

3. Who would be responsible for conducting the training?

4. What are the potential benefits of using an ECDIS system in lieu of paper charts on board a vessel?

5. IMO requires an acceptable backup for ECDIS systems. What is an acceptable backup system (A second, independent ECDIS system, an electronic charting system, manually updated and corrected paper charts)? If paper, how many charts and what scale do you recommend?

6. Which electronic navigation system components need to be backed up (i.e. power, positioning, communications)?

7. What means does an ECDIS use to provide voyage reconstruction for the purpose of marine casualty investigation and how long does the system retain this data?

8. Are there mediums to share and display this data?

9. Can ECDIS display charts and the navigation publications simultaneously?

Miscellaneous

1. Should we allow electronic versions of publications as well as charts?

2. How would any proposed regulation affect small entities?

Comments are not limited to the preceding questions and are invited on any aspect of this proposal or of implementing the electronic charting and navigation requirements for commercial vessels.

Dated: March 23, 2001.
R.C. North,
Rear Admiral, U.S. Coast Guard, Assistant Commandant for Marine Safety and Environmental Protection.

[FR Doc. 01-10835 Filed 5-1-01; 8:45 am]

BILLING CODE 4910-15-U